DEPARTMENT OF THE INTERIOR

Bureau of Land Management

[UT-020-5101-ER-J217]

Notice of Intent To Prepare an Environmental Impact Statement To Analyze PacifiCorp's Mona to Oquirrh Double-Circuit 500/345 Kilovolt (kV) Transmission Line, UT-82829, and Amend the Pony Express Resource Management Plan for the Salt Lake Field Office, Utah

AGENCY: Bureau of Land Management, Interior.

ACTION: Notice of Intent.

SUMMARY: Pursuant to section 102(2) of the National Environmental Policy Act of 1969, 40 Code of Federal Regulations (CFR) subparts 1500-1508, and 43 CFR subpart 2800 (Right-of-Way), notice is hereby given that the Bureau of Land Management (BLM), Salt Lake Field Office (SLFO) and Fillmore Field Office (FFO) will be preparing an Environmental Impact Statement (EIS) to amend the Pony Express Resource Management Plan to consider a right-of-way application for the Mona to Oquirrh Double-Circuit 500/345 Kilovolt (kV) Transmission Line, located on public lands in Juab, Tooele, Utah and Salt Lake Counties, Utah. This notice initiates the public scoping period and announces public scoping meetings.

DATES: The public will be notified of scoping meetings through the local news media at least 15 days prior to the first meeting. It is anticipated at least five scoping meetings (Copperton, Tooele, Cedar Fort, Eureka and Nephi, Utah) will be held during this scoping period. The BLM will announce public scoping meetings to identify relevant issues through local newspapers, newsletters, and the PacifiCorp Web site: http://www.pacificorp.com. The project status, including meeting dates/times, will also be available on the BLM's Electronic Notification Bulletin Board (https://www.ut.blm.gov/enbb/index.php).

ADDRESSES: Written comments on the scope of the EIS should be post-marked or hand delivered to the BLM Salt Lake Field Office or Fillmore Field Office by 4:30 p.m., no later than 30 days after the date of publication of this notice in the Federal Register to ensure full consideration. Written scoping comments should be sent to BLM, Salt Lake Field Office, 2370 South 2300 West, Salt Lake City, Utah 84119, ATTN: Mike Nelson; or Fillmore Field Office, 35 East 500 North, Fillmore, Utah 84631, ATTN: Clara Stevens. Comments may also be submitted in writing to the BLM at one of the scoping meetings or via e-mail at: UT_M2OTL_EIS@blm.gov.

FOR FURTHER INFORMATION CONTACT: For additional information contact Mike Nelson (Project Lead) Realty Specialist at the BLM Salt Lake Field Office, at (801) 977-4300; or Clara Stevens, Realty Specialist at the BLM Fillmore Field Office, at (435) 743-3100.

SUPPLEMENTARY INFORMATION: PacifiCorp proposes to establish a new double-circuit 500/345 kilovolt (kV) transmission line from the Mona Substation near Mona in Juab County, Utah to new expanded facilities at the existing Oquirrh Substation located in West Jordan and the Terminal Substation located in Salt Lake City, in Salt Lake County, Utah.

As part of long-range planning, this project will also include the identification of a right-of-way for a double-circuit 500/345kV line and the siting of two 500/345kV substations. Corridors, large enough to allow for a 1-mile separation between the proposed double-circuit 500/345kV line and the future double-circuit 500/345kV line would be considered.

The estimated lengths of the proposed transmission line route and future line would be determined through the environmental studies but could range from 60 to120 miles. A right-of-way of up to 250 feet in width and a right-of-way grant for 50 years would be required to construct, operate, and maintain the transmission line and structures. Specific acreages of access roads and temporary work areas would be determined through the environmental studies. The proposed project would take approximately eighteen months to construct, with an in-service date of June 2012. Once constructed, the project would be in operation year round transporting electrical power to the Wasatch Front.

The preliminary plan of development will be presented to the public during scoping meetings and newsletters mailed to interested parties. It will be available for public review at BLM's Salt Lake and Fillmore Field Offices and the EPG Web site. The BLM invites public comment on the scope of the analysis, including issues to consider and alternatives to the proposed action. The purpose of the public scoping process is to determine relevant issues that will influence the scope of the environmental analysis and EIS alternatives—in addition to the proposed action, the BLM will explore and evaluate all reasonable alternatives, including the no action alternative, pursuant to Council on Environmental Quality (CEQ) regulations 1502.14(a) and 1502.14(d). The issues and alternatives will also guide the plan amendment process.

An interdisciplinary approach will be used to develop the EIS, in order to consider a variety of resource issues and concerns identified. The amendment to the governing land use plan would be based upon the following planning criteria:

• The amendment will be completed in compliance with FLPMA, NEPA and all other relevant Federal Law, Executive Orders and management policies of the BLM;

• Where existing planning decisions are still valid, those decisions may remain unchanged and be incorporated into the new amendment; and

• The amendment will recognize valid existing rights.

Potential significant direct, indirect, residual, and cumulative impacts from the proposed action and alternatives will be analyzed. Important issues to be addressed in the EIS could include land uses, wildlife, transportation, visual resources and socioeconomics. Additional issues may be identified during the scoping process. BLM personnel will be present at the scoping meetings to explain the environmental review process, the right-of-way regulations, and other requirements for processing the proposed transmission line and the associated EIS. Representatives from PacifiCorp will also be available to describe their proposal.

Comments and information submitted on the EIS, including names, e-mail addresses, and street addresses of respondents, will be available for public review and disclosure at the above address. The BLM will not accept anonymous comments. Before including your address, phone number, e-mail address, or other personal identifying information in your comment, you should be aware that your entire comment—including your personal identifying information—may be made publicly available at any time. While you can ask us in your comment to withhold your personal identifying information from public review, we cannot guarantee that we will be able to do so. Formal scoping comments must be submitted within 30 days after the last public meeting. Comments received and a list of attendees for each scoping meeting will be made available for public inspection and open for 30 days following each meeting for any participant(s) who wish to clarify their views. Comments and documents pertinent to this proposal, including names and street addresses of respondents, may be examined at the Salt Lake or Fillmore Field Offices during regular business hours (7:30 a.m.-4:30 p.m. Monday through Friday, except holidays). Comments may be published as part of the EIS.

Federal, State, and local agencies, as well as individuals or organizations that may be interested in or affected by the BLM's decision on this project are invited to participate in the scoping process and, if eligible, may request or be requested by the BLM to participate as a cooperating agency.

Dated: October 9, 2007.
Selma Sierra,
Utah State Director.

[FR Doc. E7-20426 Filed 10-15-07; 8:45 am]

BILLING CODE 5101-$$-P